DEPARTMENT OF HEALTH AND HUMAN SERVICES

Centers for Disease Control and Prevention

[30Day-11-0234]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

National Ambulatory Medical Care Survey (NAMCS) (OMB No. 0920-0234 exp. 07/31/2012)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the utilization of health care provided by nonfederal office-based physicians in the United States. This revision is to notify the public of significant changes proposed for NAMCS for the 2011-2013 survey period. A three-year clearance is requested.

NAMCS was conducted annually from 1973 to 1981, again in 1985, and resumed as an annual survey in 1989. The purpose of NAMCS, a voluntary survey, is to meet the needs and demands for statistical information about the provision of ambulatory medical care services in the United States. Ambulatory services are rendered in a wide variety of settings, including physician offices and hospital outpatient and emergency departments. The NAMCS target universe consists of all office visits made by ambulatory patients to non-Federal office-based physicians (excluding those in the specialties of anesthesiology, radiology, and pathology) who are engaged in direct patient care. In 2006, physicians and mid-level providers (i.e., nurse practitioners, physician assistants, and nurse midwives) practicing in community health centers (CHCs) were added to the NAMCS sample, and these data will continue to be collected. NAMCS provides a range of baseline data on the characteristics of the users and providers of ambulatory medical care. Data collected include the patients' demographic characteristics, reason(s) for visit, provider diagnoses, diagnostic services, medications, and visit disposition.

The President's fiscal year 2011 budget requests that Congress consider a budget increase for this survey for 2011. If the budget increase is approved by Congress, an increase in the sample size of approximately 1,000 physicians and 30,000 visit records is requested. NCHS is also increasing the sample by 500 physicians funded through the Patient Protection and Affordable Care Act (ACT) of 2010. Currently NAMCS produces national and regional estimates. These increases will greatly improve the ability to track providers' practice patterns, including their adoption and meaningful use of health information technology (HIT).

A supplemental mail survey on the adoption and use of electronic medical records (EMRs) in physician offices was added to NAMCS in 2008, and will continue. These data were requested by the Office of the National Coordinator for Health Information Technology (ONC), Department of Health and Human Services, to measure progress toward goals for EMR adoption. The mail survey will collect information on characteristics of physician practices and the capabilities of EMRs used in those practices. To complement the EMR mail survey, NCHS plans to introduce a provider-based mail survey to assess physician workflow before and after EMR implementation. The EMR workflow mail survey is also sponsored by ONC and will evaluate the progress of meeting the President's goal for most Americans to have access to an interoperable electronic health record by 2014.

Scheduled to begin in 2012, a proposed asthma supplement will be administered to primary care physicians, physicians likely to see asthma patients, and all CHC providers. This supplement will provide a more accurate picture of the uptake and implementation of specific asthma management guidelines. Also beginning in 2012, questions are being added to the NAMCS induction form to collect information on the frequency of referrals and use of complementary and alternative medicine (CAM) by conventional providers. These questions will show the extent to which conventional providers are integrating CAM into their treatment plans.

In 2011, NAMCS will include an additional sample of 300 physicians to pretest the asthma supplement, CAM questions, and computerized assisted interviewing instruments that will mimic current NAMCS forms. If the pretest is successful, NCHS will add the new CAM items, asthma supplement, and computerized instruments for data collection beginning in 2012.

Users of NAMCS data include, but are not limited to, Congressional offices, Federal agencies, State and local governments, schools of public health, colleges and universities, private industry, nonprofit foundations, professional associations, clinicians, researchers, administrators, and health planners.

There is no cost to respondents other than their time to participate. The total estimated annualized burden hours are 12,179.

Estimated Annualized Burden Hours
Type of respondent | Form name | Number of respondents | Number of responses per respondent | Hours per response
Core NAMCS:
Office-based physicians/CHC providers | Physician Induction Interview (NAMCS-1) | 5,012 | 1 | 28/60
Community Health Center Directors | Community Health Center Induction Interview (NAMCS-201) | 104 | 1 | 20/60
Office-based physicians/CHC providers/staff | Patient Record form (NAMCS-30) | 1,017 | 30 | 11/60
Office/CHC staff | Pulling, re-filing Patient Record form (NAMCS-30) | 893 | 30 | 1/60
Office-based physicians/CHC providers/staff | Asthma Supplement | 669 | 1 | 15/60
Office-based physicians | EMR/EHR Mail Survey | 5,460 | 1 | 20/60
Office-based physicians | Physician Workflow Survey | 2,982 | 1 | 20/60
Pretest NAMCS forms:
Office-based physicians | Physician Induction Interview (NAMCS-1) | 100 | 1 | 35/60
Office-based physicians | Asthma Supplement | 100 | 1 | 15/60
Office-based physicians/staff | Patient Record form (NAMCS-30) | 100 | 30 | 14/60

Dated: February 7, 2011.
Carol E. Walker,
Acting Reports Clearance Officer, Centers for Disease Control and Prevention.

[FR Doc. 2011-3083 Filed 2-10-11; 8:45 am]

BILLING CODE 4163-18-P